DEPARTMENT OF THE INTERIOR

Bureau of Land Management

[XXX.LLAZ920000.L19200000.ET0000.LRORA2020000, AZA-38426]

Notice of Withdrawal Application and Notice of Public Meetings for the Yuma Proving Ground, Arizona

AGENCY: Bureau of Land Management, Interior.

ACTION: Notice of withdrawal application.

SUMMARY: The United States Army (Army) filed an application with the Bureau of Land Management (BLM) requesting a withdrawal and reservation of 21,200 acres of public lands from all forms of appropriation under the public land laws, including location and entry under the United States mining laws, and from leasing under the mineral and geothermal leasing laws, and 800 acres of Federal surface estate public lands from appropriation under the public land laws for an indefinite period for defense purposes as an addition to the Yuma Proving Ground (YPG) located in La Paz and Yuma Counties, Arizona, subject to valid existing rights. Any decision about the application will be made by the United States Congress. Publication of this notice temporarily segregates the lands for up to 2 years and announces to the public an opportunity to comment and participate in public meetings on the Army's application for withdrawal.

DATES: Comments must be received by July 5, 2022. In addition, the Army and the BLM will host virtual public meetings addressing the requested withdrawal and the associated environmental review process. The dates and instructions for the public meetings are listed in the SUPPLEMENTARY INFORMATION section.

ADDRESSES: All comments should be sent to the BLM Arizona State Office, 1 North Central Avenue, Suite 800, Phoenix, AZ 85004; faxed to (602) 417-9452; or sent by email to BLM_AZ_Withdrawal_Comments@blm.gov. The BLM will not consider comments via telephone calls.

Information on the proposed action, including the environmental review process, can be viewed at the YPG's website: https://ypg-environmental.com/highway-95-land-withdrawal-leis/.

FOR FURTHER INFORMATION CONTACT: Michael Ouellett, Realty Specialist, BLM Arizona State Office, telephone 602-417-9561, email at mouellett@blm.gov; or you may contact the BLM Arizona State Office at the earlier-listed address. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In its application, the Army requests the withdrawal and reservation of the specified public lands for military testing and training purposes for an indefinite term, subject to valid existing rights. In accordance with the Engle Act (43 U.S.C. 155-158), because the public lands requested exceed 5,000 acres, this withdrawal request must be directed to Congress.

The following described public lands are the subject of the Army's withdrawal application, and are temporarily segregated for a period of up to 2 years from all forms of appropriation under the public land laws, including location and entry under the United States mining laws, and from leasing under the mineral and geothermal leasing laws, subject to valid existing rights:

Gila and Salt River Meridian, Arizona

(Surface and Subsurface)

T. 1 N., R. 19 W.,

Sec. 4, that part lying westerly of the westerly right-of-way of U.S. Route 95;

Secs. 5 and 8;

Sec. 9, that part lying westerly of the westerly right-of-way of U.S. Route 95;

Secs. 17 and 20;

Secs. 21 and 28, those portions lying westerly of the westerly right-of-way of U.S. Route 95;

Sec. 29;

Sec. 33, that part lying westerly of the westerly right-of-way of U.S. Route 95.

T. 2 N., R. 19 W.,

Sec. 33, S½SW¼, and S½SE¼, that part lying westerly of the westerly right-of-way of U.S. Route 95.

T. 1 S., R. 19 W.,

Secs. 4 thru 9 and secs. 16 thru 21;

Sec. 28, that part lying westerly of the westerly right-of-way of U.S. Route 95;

Secs. 29 thru 32;

Sec. 33, that part lying westerly of the westerly right-of-way of U.S. Route 95.

T. 2 S., R. 19 W.,

Sec. 4, that part lying westerly of the westerly right-of-way of U.S. Route 95;

Secs. 5 thru 7;

Sec. 8, that part lying westerly of the westerly right-of-way of U.S. Route 95, excepting NE¼SW¼NW¼SE¼, W½SE¼NW¼SE¼, and NW¼NE¼SW¼SE¼;

Sec. 9, that part lying westerly of the westerly right-of-way of U.S. Route 95;

Sec. 17, that part lying westerly of the westerly right-of-way of U.S. Route 95, excepting S1/2SW¼;

Sec. 18;

Sec. 19, lots 1 thru 4, NW¼ NE¼, and E½NW¼;

Sec. 30, lot 1.

The areas described aggregate 21,200 acres in La Paz and Yuma Counties.

The following-described Federal surface estate public lands are the subject of the Army's withdrawal application, and are temporarily segregated for up to 2 years from all forms of appropriation under the public land laws subject to valid existing rights;

Gila and Salt River Meridian, Arizona

(Surface Only; Subsurface Excepted—Non-Federal Ownership)

T. 1 N., R. 19 W.,

Sec. 32.

T. 2 N., R. 19 W.,

Sec. 32, S½SW¼, and S½SE¼.

The areas described aggregate approximately 800 acres in La Paz and Yuma Counties.

The use of a right-of-way, interagency agreement, or cooperative agreement is precluded because of the expected annual usage, daily duration, and impact to the public of the proposed military activities within the requested withdrawal area.

No additional water rights are needed to fulfill the purpose of the requested withdrawal area.

There are no suitable alternative sites within or outside of the YPG boundaries that are compatible with the proposed use since the subject withdrawal area will be an additional surface safety zone adjacent to an existing YPG parachute drop zone. The drop zone was specifically established for its soil attributes, topography, and airspace which are optimal for testing and observation of parachute and air delivery systems. The additional safety zone is needed to enhance the testing of new technology on existing drop zones by preventing public entry into hazardous areas during high-altitude drop operations.

Before including your address, phone number, email address, or other personal identifying information in your comment, you should be aware that your entire comment, including your personal identifying information, may be made publicly available at any time. While you can ask us in your comment to withhold your personal identifying information from public review, we cannot guarantee that we will be able to do so.

Notice is hereby given for two public meetings in connection with the proposed withdrawal. In response to the coronavirus (COVID-19) pandemic in the United States, and the U.S. Centers for Disease Control and Prevention recommendations for social distancing and avoidance of large public gatherings, the BLM and Army will not hold in-person public meetings for this action. The BLM and Army will host the public meetings online and by telephone. There will be two public online meetings scheduled for Tuesday June 7, 2022, at 3 p.m. and Wednesday June 8, 2022, at 5 p.m. Mountain Time. The BLM and Army will publish the instructions on how to access the online meetings in the Yuma Sun (Yuma), Bajo El Sol (Yuma), and Desert Messenger (Quartzsite) newspapers at a minimum of 15 days prior to the meetings and on the website: https://ypg-environmental.com/highway-95-land-withdrawal-leis/.

For a period until April 4, 2024, the lands will be segregated as specified earlier unless the application is denied or canceled. Licenses, permits, cooperative agreements, or discretionary land-use authorizations of a temporary nature that would not impact the lands may be allowed with the approval of an authorized officer of the BLM during the segregative period.

The application will be processed in accordance with the regulations at 43 CFR part 2310.3 and 43 U.S.C. 155-158.

(Authority: 43 U.S.C. 155-158, 43 U.S.C. 1714(b)(1) and 43 CFR 2300)

Raymond Suazo,
Arizona State Director.

[FR Doc. 2022-07037 Filed 4-1-22; 8:45 am]

BILLING CODE 4310-32-P